DEPARTMENT OF THE INTERIOR

Bureau of Reclamation

[RR02600000, 15XR0680A1, RX191242012000000]

Notice of Intent To Prepare an Extraordinary Operation and Maintenance Environmental Impact Statement for the Truckee Canal, Lahontan Basin Area Office, Nevada

AGENCY: Bureau of Reclamation, Interior.

ACTION: Notice.

SUMMARY: The Bureau of Reclamation, Lahontan Basin Area Office, the lead Federal agency, intends to prepare an Extraordinary Operation and Maintenance (XM) Environmental Impact Statement (EIS) for the Truckee Canal (Canal). The XM EIS will evaluate opportunities to reduce the risk to public safety from a Canal breach. Multiple federal, state, and local government agencies, tribal entities, and quasi- or non-governmental entities will be invited to participate as cooperating agencies for the XM EIS.

DATES: Submit written comments on the scope of the draft XM EIS by November 30, 2015.

Three public scoping meetings will be held on the following dates and times:

• Tuesday, October 27, 2015, 5:30 to 7:30 p.m., Wadsworth, Nevada.

• Wednesday, October 28, 2015, 5:30 to 7:30 p.m., Fallon, Nevada.

• Thursday, October 29, 2015, 5:30 to 7:30 p.m. in Fernley, Nevada.

ADDRESSES: Send written comments on the scope of the draft XM EIS to Ms. Roberta Tassey, Lahontan Basin Area Office, Bureau of Reclamation, 705 N. Plaza Street, Room 320, Carson City, Nevada 89701; or by email to TruckeeEIS@empsi.com.

Scoping meetings will be held at the following locations:

• Wadsworth—Wadsworth Community Building, Eighth Street, Wadsworth, Nevada.

• Fallon—Churchill County Administrative Complex, Commission Chambers Room no. 15, 155 N. Taylor Street, Fallon, Nevada.

• Fernley—Fernley City Council Chambers, 595 Silverlace Boulevard, Fernley, Nevada.

FOR FURTHER INFORMATION CONTACT: For further information and/or to be added to the mailing list, please contact Ms. Roberta Tassey at rtassey@usbr.gov. Additional information may be obtained through the Truckee Canal XM EIS link on the Lahontan Basin Area Office Web page http://www.usbr.gov/mp/lbao/index.html.

Persons who use a telecommunications device for the deaf may call the Federal Information Relay Service (FIRS) at 1-800-877-8339 to contact the above individual during normal business hours. FIRS is available 24 hours a day, 7 days a week, to leave a message or question with the above individual. You will receive a reply during normal business hours.

SUPPLEMENTARY INFORMATION: This Federal Register notice provides the public with information regarding the Bureau of Reclamation's (Reclamation) intent to prepare an EIS pursuant to the National Environmental Policy Act of 1969, as amended.

Background. Nine Federal agencies, three Nevada state agencies, 13 local governments, four tribal entities, and seven quasi- or non-governmental entities will be invited to participate as cooperating agencies for the XM EIS. Other entities will be considered as necessary during the XM EIS process.

The Canal is part of the Newlands Project (Project), which was constructed in 1903 as one of the Reclamation's first projects. In January 2008, a portion of the Canal embankment near the City of Fernley, Nevada, breached. The Canal's operations are now limited due to safety concerns.

Portions of the Project were listed on the National Register of Historic Places on March 25, 1981. In addition, the Canal and other associated structures have been determined eligible for listing on the National Register of Historic Places for contributing to the history of the Project.

Scoping meetings will be held in Carson City, Fallon, and Fernley; Nevada. Additional information regarding specific dates and times for the upcoming meetings and identification of relevant comment periods will be provided in a future notice, local news media, and through direct contact with interested parties.

Purpose and Need for Action. The purpose is to improve public safety by reducing the risk of a Canal breach. Reclamation needs to take action to evaluate alternatives that will enable the Canal operator—the Truckee Carson Irrigation District (TCID)—to safely operate the Canal and deliver Project water in compliance with operating criteria and procedures for the Project. Additional restrictions on Canal operations may be necessary without taking actions or initiating risk-reducing repairs.

Proposed Federal Action. Reclamation or TCID are proposing to complete structural improvements of the Canal facilities; and/or implement a long-term tolerable stage level restriction. This may be achieved using a variety of options including, but not limited to the following structural improvements to the canal embankment, which could include sheet pile walls and improvements to the earthen embankment.

• Lining portions of the Canal

• Installing detention and/or retention ponds

• Installing automated check structures to regulate flow through the Canal

• Installing passive overflow and/or wasteway structures

• Reducing the Canal stage-levels with no structural improvements

Public Disclosure. Before including your address, phone number, email address, or other personal identifying information in your comment, please be advised that your entire comment-including your personal identifying information-may be made publicly available at any time. While you may request that we withhold your personal identifying information from public review, we cannot guarantee that we will be able to do so.

Dated: September 8, 2015.

Jason Phillips,

Deputy Regional Director, Mid-Pacific Region.

[FR Doc. 2015-26195 Filed 10-16-15; 8:45 am]

BILLING CODE 4332-90-P